FEDERAL COMMUNICATIONS COMMISSION

[AU Docket No. 13-53; DA 13-1876]

Comment Sought on Petition for Reconsideration of Auction 902 Procedures Public Notice

AGENCY: Federal Communications Commission.

ACTION: Notice.

SUMMARY: This document announces that on September 6, 2013, Smith Bagley, Inc. (SBI) filed a petition requesting that the Commission's Wireless Telecommunications Bureau and Wireline Competition Bureau reconsider their decision to deny SBI's request that additional census blocks in the northwestern region of New Mexico be included in the list of eligible areas for the Tribal Mobility Fund Phase I auction, Auction 902. This document seeks comment on SBI's Petition for Reconsideration.

DATES: Oppositions are due on or before September 16, 2013, and Replies to Oppositions are due on or before September 23, 2013.

ADDRESSES: All filings in response to this public notice must refer to AU Docket No. 13-53. The Wireless Telecommunications Bureau and Wireline Competition Bureau strongly encourage the use of electronic filing to facilitate expeditious review of the record in light of the schedule for this upcoming auction, and request that an additional copy of all oppositions and replies be submitted electronically to the following address: auction902@fcc.gov. Comments may be submitted by any of the following methods:

• Electronic Filers: Federal Communications Commission's Web site: http://fjallfoss.fcc.gov/ecfs2/. Follow the instructions for submitting comments.

• Paper Filers: Parties who choose to file by paper must file an original and one copy of each filing. Filings can be sent by hand or messenger delivery, by commercial overnight courier, or by first-class or overnight U.S. Postal Service mail. All filings must be addressed to the Commission's Secretary, Attn: WTB/ASAD, Office of the Secretary, Federal Communications Commission.

• All hand-delivered or messenger-delivered paper filings for the Commission's Secretary must be delivered to FCC Headquarters at 445 12th Street SW., Room TW-A325, Washington, DC 20554. The filing hours are 8 a.m. to 7 p.m. Eastern Time. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington, DC 20554.

• People with Disabilities: Contact the FCC to request reasonable accommodations (accessible format documents, sign language interpreters, CART, etc.) by email: FCC504@fcc.gov or phone: 202-418-0530 or TTY: 202-418-0432.

FOR FURTHER INFORMATION CONTACT: Patricia Robbins, Wireless Telecommunications Bureau, Auctions and Spectrum Access Division at (202) 418-0660.

SUPPLEMENTARY INFORMATION: This is a summary of the Auction 902 Petition for Reconsideration Public Notice released on September 9, 2013. The complete text of the Auction 902 Petition for Reconsideration Public Notice, including related Commission documents, is available for public inspection and copying from 8:00 a.m. to 4:30 p.m. Eastern Time (ET) Monday through Thursday or from 8:00 a.m. to 11:30 a.m. ET on Fridays in the FCC Reference Information Center, 445 12th Street SW., Room CY-A257, Washington, DC 20554. The Auction 902 Petition for Reconsideration Public Notice and related Commission documents also may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 13-1876 for the Auction 902 Petition for Reconsideration Public Notice. The Auction 902 Petition for Reconsideration Public Notice and related documents also are available on the Internet at the Commission's Web site: http://wireless.fcc.gov/auctions/902/, or by using the search function for AU Docket No. 13-53 on the Commission's Electronic Comment Filing System (ECFS) Web page at http://www.fcc.gov/cgb/ecfs/. This matter shall be treated as a “permit-but-disclose” proceeding in accordance with the Commission's ex parte rules.

Federal Communications Commission.
Gary Michaels,
Deputy Chief, Auctions and Spectrum Access Division, WTB.

[FR Doc. 2013-22482 Filed 9-13-13; 8:45 am]

BILLING CODE 6712-01-P